ENVIRONMENTAL PROTECTION AGENCY

[FRL-7899-8]

Science Advisory Board Staff Office Clean Air Scientific Advisory Committee (CASAC) Notification of Advisory Committee Meeting of the CASAC Ozone Review Panel

AGENCY: Environmental Protection Agency (EPA).

ACTION: Notice.

SUMMARY: The Environmental Protection Agency, Science Advisory Board (SAB) Staff Office announces a public meeting of the Clean Air Scientific Advisory Committee's (CASAC) Ozone Review Panel (Panel) to conduct a peer review of the Air Quality Criteria for Ozone and Related Photochemical Oxidants (First External Review Draft), Volumes I, II, and III, (EPA/600/R-05/004aA, bA, and cA, January 2005).

DATES: May 4-5, 2005. The meeting will be held Wednesday, May 4, 2005, from 9 a.m. to 5:30 p.m. (eastern time), and Thursday, May 5, 2005, from 8:30 a.m. to 3 p.m (eastern time).

ADDRESSES: The meeting will take place at the Hilton Raleigh-Durham Airport at Research Triangle Park, 4810 Page Road, Research Triangle Park, NC 27709. A publicly-accessible teleconference line will be available for the entire meeting.

FOR FURTHER INFORMATION CONTACT: Any member of the public who wishes to obtain the teleconference call-in numbers and access codes; would like to submit written or brief oral comments (five minutes or less); or wants further information concerning this meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: EPA is in the process of updating, and revising where appropriate, the air quality criteria document (AQCD) for ozone and related photochemical oxidants published in 1996. Section 109(d)(1) of the Clean Air Act (CAA) requires that EPA carry out a periodic review and revision, as appropriate, of the air quality criteria and the national ambient air quality standards (NAAQS) for the six “criteria” air pollutants such as ozone. On January 31, 2005, EPA's National Center for Environmental Assessment, Research Triangle Park, NC (NCEA-RTP), within the Agency's Office of Research and Development (ORD), made available for public review and comment a First External Review Draft of a revised document, Air Quality Criteria for Ozone and Related Photochemical Oxidants (First External Review Draft), Volumes I, II, and III, (first draft Ozone AQCD, January 2005). Under CAA sections 108 and 109, the purpose of the revised Ozone AQCD is to provide an assessment of the latest scientific information on the effects of ambient ozone on the public health and welfare, for use in EPA's current review of the NAAQS for ozone. Detailed summary information on EPA's first draft Ozone AQCD is contained in a previous EPA Federal Register notice (70 FR 4850, January 31, 2005).

EPA is soliciting advice and recommendations from the CASAC by means of a peer review of the first draft Ozone AQCD. The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. The CASAC Ozone Review Panel will comply with the provisions of FACA and all appropriate SAB Staff Office procedural policies. This meeting is the CASAC Ozone Review Panel's initial peer review of first draft Ozone AQCD.

Technical Contact: Any questions concerning the first draft Ozone AQCD should be directed to Dr. Lori White, NCEA-RTP, at phone: (919) 541-3146, or e-mail: white.lori@epa.gov.

Availability of Meeting Materials: The Air Quality Criteria for Ozone and Related Photochemical Oxidants (First External Review Draft), Volumes I, II, and III, (EPA 600/R-05/004aA, bA, and cA, January 2005) can be accessed via the Agency's NCEA Web site at: http://cfpub.epa.gov/ncea/ under “Risk Assessments (Ozone).” In addition, a copy of the draft agenda for this meeting will be posted on the SAB Web site at: http://www.epa.gov/sab (under the “Agendas” subheading) in advance of this CASAC Ozone Review Panel meeting. Other meeting materials, including the charge to the CASAC Ozone Review Panel, will be posted on the SAB Web site at: http://www.epa.gov/sab/panels/casacorpanel.html prior to this meeting.

Providing Oral or Written Comments at SAB Meetings: It is the policy of the SAB Staff Office to accept written public comments of any length, and to accommodate oral public comments whenever possible. The SAB Staff Office expects that public statements presented at its face-to-face meetings and teleconferences will not be repetitive of previously-submitted oral or written statements.

Oral Comments: In general, each individual or group requesting an oral presentation at a meeting or teleconference will be limited to a total time of five minutes (unless otherwise indicated). For scheduling purposes, requests to provide oral comments must be in writing (e-mail, fax or mail) and received by Mr. Butterfield no later than noon eastern time five business days prior to the meeting in order to reserve time on the meeting agenda. Speakers should bring at least 75 copies of their comments and presentation slides for distribution to the reviewers and public at the meeting.

Written Comments: Although the SAB Staff Office accepts written comments until the date of the meeting (unless otherwise stated), written comments should be received in the SAB Staff Office no later than noon eastern time five business days prior to the meeting so that the comments may be made available to the CASAC Ozone Review Panel for their consideration. Comments should be supplied to Mr. Butterfield (preferably via e-mail) at the address/contact information noted above, as follows: one hard copy with original signature, and one electronic copy via e-mail (acceptable file format: Adobe Acrobat PDF, WordPerfect, MS Word, MS PowerPoint, or Rich Text files (in IBM-PC/Windows 98/2000/XP format)). Those providing written comments and who attend the meeting in person are also asked to bring 75 copies of their comments for public distribution.

Meeting Access: Individuals requiring special accommodation at this meeting, including wheelchair access to the conference room, should contact Mr. Butterfield at the phone number or an e-mail address noted above at least at least five business days prior to the meeting so that appropriate arrangements can be made.

Dated: April 8, 2005.
Vanessa T. Vu,
Director, EPA Science Advisory Board Staff Office.

[FR Doc. 05-7508 Filed 4-13-05; 8:45 am]

BILLING CODE 6560-50-P